DEPARTMENT OF ENERGY

Federal Energy Regulatory Commission

[Docket No. RP03-156-000]

Questar Southern Trails Pipeline Company; Notice of Tariff Filing

December 4, 2002.

Take notice that on November 29, 2002, Questar Southern Trails Pipeline Company (Southern Trails) tendered for filing as part of its FERC Gas Tariff, Original Volume No. 1, First Revised Sheet No. 65; and First Revised Sheet No. 66, to be effective January 1, 2003.

Southern Trails states that the filing is being made in compliance with the Commission's Order on Remand dated October 31, 2002, in Docket No. RM98-10-011.

Southern Trails states that on October 31, 2002, the Commission issued an Order on Remand (October 31 Order) requiring all pipelines that provide segmentation on their systems to file revised tariff provisions to expressly permit segmented transactions consisting of forwardhauls, up to contract demand, and backhauls, up to contract demand, to the same point at the same time. At this time, Southern Trails has stated that it is not operationally feasible to provide segmentation on its system. Southern Trails indicates that the October 31 Order also removed the five-year right of first refusal term matching cap when shippers exercise their right of first refusal. Southern Trails notes that this filing is being tendered in compliance with the Commission's October 31 Order.

Southern Trails states that a copy of this filing has been served upon its customers and the Public Service Commissions of Utah, New Mexico, Arizona and California.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. Comments, protests and interventions may be filed electronically via the Internet in lieu of paper. The Commission strongly encourages electronic filings. See 18 CFR 385.2001(a)(1)(iii) and the instructions on the Commission's Web site under the “e-Filing” link.

Magalie R. Salas,
Secretary.

[FR Doc. 02-31271 Filed 12-11-02; 8:45 am]

BILLING CODE 6717-01-P